DEPARTMENT OF COMMERCE

Foreign-Trade Zones Board

[B-45-2020]

Foreign-Trade Zone (FTZ) 26—Atlanta, Georgia; Authorization of Production Activity; Ricoh Electronics, Inc. (Toner Products, Thermal Paper and Film); Lawrenceville and Buford, Georgia

On July 13, 2020, Ricoh Electronics, Inc., submitted a notification of proposed production activity to the FTZ Board for its facilities within Subzone 26H, in Lawrenceville and Buford, Georgia.

The notification was processed in accordance with the regulations of the FTZ Board (15 CFR part 400), including notice in the Federal Register inviting public comment (85 FR 44040, July 21, 2020). On November 10, 2020, the applicant was notified of the FTZ Board's decision that no further review of the activity is warranted at this time. The production activity described in the notification, as amended, was authorized, subject to the FTZ Act and the FTZ Board's regulations, including Section 400.14.

Dated: November 10, 2020.
Andrew McGilvray,
Executive Secretary.

[FR Doc. 2020-25198 Filed 11-13-20; 8:45 am]

BILLING CODE 3510-DS-P